DEPARTMENT OF TRANSPORTATION

Federal Highway Administration

Environmental Impact Statement: Bristol County, MA

AGENCY: Federal Highway Administration (FHWA), DOT.

ACTION: Cancellation of the Notice of Intent.

SUMMARY: This notice rescinds the previous Notice of Intent (issued October 9, 1985) to prepare an Environmental Impact Statement for a proposed bridge replacement project—the Elm St and Center St (Berkley-Dighton) Bridge over the Taunton River—in Bristol County, Massachusetts.

FOR FURTHER INFORMATION CONTACT: John McVann, Field Operations Team Leader, Federal Highway Administration, Massachusetts Division Office, 55 Broadway, 10th floor, Cambridge, MA 02142, Telephone: (617) 494-2521—or—Diane Madden, Sr. Project Manager, Massachusetts Highway Department, Environmental Services, 10 Park Plaza, Room 4260, Boston, MA 02116, Telephone (617) 973-7477.

SUPPLEMENTARY INFORMATION: The proposed project has changed dramatically from the mid-1980s when FHWA determined that except for the historical aspects of the project the proposed action would be classified as a categorical exclusion. Early proposals including new fixed bridges over 20' in height on northern or southern alignment, negatively impacting the adjacent Bridge Village National Register-eligible Historic District. In 2000, noting extensive changes in the district close to the bridge, FHWA concurred with a MassHighway petition to de-list the district, which was later redrawn, retaining the bridge as a contributing element. Early in 2006, MassHighway presented its current proposal to acclaim, proposing to replace the bridge on its existing alignment, providing a Temporary Bridge on southern alignment to allow public safety mutual aid and vehicular travel. The proposed fixed bridge will be 7 feet taller than the existing movable bridge in closed position. This proposal reduces impacts to the surrounding area, including the re-drawn Bridge Village National Register-eligible Historic District. For these reasons, FHWA believes that the proper class of action for the current proposal is a Categorical Exclusion.

Richard J. Marquis,
Assistant FHWA Division Administrator, Cambridge, MA.

[FR Doc. E8-13495 Filed 6-18-08; 8:45 am]

BILLING CODE 4910-22-M